DEPARTMENT OF LABOR

Employment and Training Administration

[TA-W-50,907]

Frametome Connectors, Inc., Communications, Data and Consumer Division, Fiber Optics Group, a Member of the Areva Group, Etters, PA; Notice of Termination of Investigation

Pursuant to section 221 of the Trade Act of 1974, as amended, an investigation was initiated on February 14, 2003 in response to a petition filed on behalf of workers at Frametome Connectors USA, Inc., Communications, Data and Consumer Division, Fiber Optics Group, the Areva Group, Etters, Pennsylvania.

The petitioning group of workers is covered by an active certification issued on March 26, 2003 and which remains in effect (TA-W-50,122). Consequently, further investigation in this case would serve no purpose, and the investigation has been terminated.

Signed at Washington, DC, this 26th day of March 2003.
Linda G. Poole,
Certifying Officer, Division of Trade Adjustment Assistance.

[FR Doc. 03-8342 Filed 4-4-03; 8:45 am]

BILLING CODE 4510-30-P